DEPARTMENT OF TRANSPORTATION

Federal Aviation Administration

14 CFR Part 39

[Docket No. FAA-2019-0699; Product Identifier 2019-NM-148-AD; Amendment 39-19736; AD 2019-18-09]

RIN 2120-AA64

Airworthiness Directives; Lockheed Martin Corporation/Lockheed Martin Aeronautics Company Airplanes

AGENCY: Federal Aviation Administration (FAA), DOT.

ACTION: Final rule; request for comments.

SUMMARY: The FAA is adopting a new airworthiness directive (AD) for all Lockheed Martin Corporation/Lockheed Martin Aeronautics Company Model 382, 382B, 382E, 382F, and 382G airplanes; and Model C-130A, HP-C-130A, EC-130Q, and C-130B airplanes. This AD requires a visual inspection of the center wing upper and lower rainbow fittings for cracks, an eddy current inspection of the center wing lower rainbow fittings for cracks, and replacement if necessary. This AD was prompted by reports of cracked inner tangs of the center wing lower rainbow fittings. The FAA is issuing this AD to address the unsafe condition on these products.

DATES: This AD is effective October 11, 2019.

The Director of the Federal Register approved the incorporation by reference of a certain publication listed in this AD as of October 11, 2019.

The FAA must receive comments on this AD by November 12, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this final rule, contact Lockheed Martin Corporation/Lockheed Martin Aeronautics Company, Customer Support Center, Dept. 3E1M, Zone 0591, 86 S. Cobb Drive, Marietta, GA 30063; telephone 770-494-5444; fax 770-494-5445; email hercules.support@lmco.com. You may view this service information at the FAA, Transport Standards Branch, 2200 South 216th St., Des Moines, WA. For information on the availability of this material at the FAA, call 206-231-3195. It is also available on the internet at http://www.regulations.gov by searching for and locating Docket No. FAA-2019-0699.

Examining the AD Docket

You may examine the AD docket on the internet at http://www.regulations.gov by searching for and locating Docket No. FAA-2019-0699; or in person at Docket Operations between 9 a.m. and 5 p.m., Monday through Friday, except Federal holidays. The AD docket contains this final rule, the regulatory evaluation, any comments received, and other information. The street address for Docket Operations (phone: 800-647-5527) is listed above. Comments will be available in the AD docket shortly after receipt.

FOR FURTHER INFORMATION CONTACT: Carl Gray, Aerospace Engineer, Airframe Section, FAA, Atlanta ACO Branch, 1701 Columbia Avenue, College Park, GA 30337; phone: 404-474-5554; fax: 404-474-5606; email: carl.w.gray@faa.gov.

SUPPLEMENTARY INFORMATION:

Discussion

The FAA received reports of cracked inner tangs of the center wing lower rainbow fitting. Each tang (node) contains a single attachment bolt to the outer wing. If three or more tangs fail, the rainbow fitting can no longer carry limit load and the rainbow fitting may fail. This condition, if not addressed, could result in failure of the center wing lower rainbow fittings, wing separation, and loss of the airplane.

Related Service Information Under 1 CFR Part 51

The FAA reviewed Lockheed Martin Aeronautics Company Alert Service Bulletin A382-57-98, Revision 1, dated August 16, 2019. This service information describes procedures for a visual inspection of the center wing upper and lower rainbow fittings for cracks, an eddy current inspection of the center wing lower rainbow fittings for cracks, and replacement if necessary. This service information is reasonably available because the interested parties have access to it through their normal course of business or by the means identified in the ADDRESSES section.

FAA's Determination

The FAA is issuing this AD because the agency evaluated all the relevant information and determined the unsafe condition described previously is likely to exist or develop in other products of the same type design.

AD Requirements

This AD requires accomplishing the actions specified in the service information described previously, except as discussed under “Differences Between this AD and the Service Information.”

Impact on Intrastate Aviation in Alaska

In light of the heavy reliance on aviation for intrastate transportation in Alaska, the FAA fully considered the effects of this AD (including costs to be borne by affected operators) from the earliest possible stages of AD development. This AD is based on those considerations, and was developed with regard to minimizing the economic impact on operators to the extent possible, consistent with the safety objectives of this AD. In any event, the Federal Aviation Regulations require operators to correct an unsafe condition identified on an airplane to ensure operation of that airplane in an airworthy condition. The FAA has determined in this case that the requirements are necessary and the indirect costs would be outweighed by the safety benefits of the AD.

Differences Between This AD and the Service Information

Lockheed Martin Aeronautics Company Alert Service Bulletin A382-57-98, Revision 1, dated August 16, 2019, specifies that, for certain airplanes, Service Bulletin 382-57-97, or the results of a Lockheed Martin Operational Usage Evaluation (OUE) should be used to determine the number of flight hours on the center wing lower rainbow fittings. This AD would not allow the use of Service Bulletin 382-57-97 or the OUE to determine the number of flight hours on the center wing lower rainbow fittings, because Service Bulletin 382-57-97 and the OUE have not been approved by the FAA. If operators are unable to determine the number of flight hours on the center wing lower rainbow fittings, they must do the actions required by this AD within 30 days after the effective date of this AD.

Justification for Immediate Adoption and Determination of the Effective Date

Section 553(b)(3)(B) of the Administrative Procedure Act (APA) (5 U.S.C.) authorizes agencies to dispense with notice and comment procedures for rules when the agency, for “good cause,” finds that those procedures are “impracticable, unnecessary, or contrary to the public interest.” Under this section, an agency, upon finding good cause, may issue a final rule without seeking comment prior to the rulemaking. Similarly, Section 553(d) of the APA authorizes agencies to make rules effective in less than thirty days, upon a finding of good cause.

An unsafe condition exists that requires the immediate adoption of this AD without providing an opportunity for public comments prior to adoption. The FAA has found that the risk to the flying public justifies waiving notice and comment prior to adoption of this rule because cracked inner tangs of the center wing lower rainbow fittings could result in failure of the center wing lower rainbow fittings, wing separation, and loss of the airplane. Furthermore, based upon the age of the fleet it is likely that many airplanes are beyond the threshold specified in this AD. Thus, the compliance time for the required action is shorter than the time necessary for the public to comment and for publication of the final rule.

Accordingly, notice and opportunity for prior public comment are impracticable and contrary to the public interest pursuant to 5 U.S.C. 553(b)(3)(B). In addition, for the reasons stated above, the FAA finds that good cause exists pursuant to 5 U.S.C. 553(d) for making this amendment effective in less than 30 days.

Comments Invited

This AD is a final rule that involves requirements affecting flight safety and was not preceded by notice and an opportunity for public comment. However, the FAA invites you to send any written data, views, or arguments about this final rule. Send your comments to an address listed under the ADDRESSES section. Include the docket number FAA-2019-0699 and Product Identifier 2019-NM-148-AD at the beginning of your comments. The FAA specifically invites comments on the overall regulatory, economic, environmental, and energy aspects of this final rule. The FAA will consider all comments received by the closing date and may amend this final rule because of those comments.

Except for Confidential Business Information (CBI) as described in the following paragraph, and other information as described in 14 CFR 11.35, the FAA will post all comments received, without change, to http://www.regulations.gov, including any personal information you provide. The FAA will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Carl Gray, Aerospace Engineer, Airframe Section, FAA, Atlanta ACO Branch, 1701 Columbia Avenue, College Park, GA 30337; phone: 404-474-5554; fax: 404-474-5606; email: carl.w.gray@faa.gov. Any commentary that the FAA receives which is not specifically designated as CBI will be placed in the public docket for this rulemaking.

Regulatory Flexibility Act

The requirements of the Regulatory Flexibility Act (RFA) do not apply when an agency finds good cause pursuant to 5 U.S.C. 553 to adopt a rule without prior notice and comment. Because the FAA has determined that it has good cause to adopt this rule without notice and comment, RFA analysis is not required.

Costs of Compliance

The FAA estimates that this AD affects 30 airplanes of U.S. registry. The FAA estimates the following costs to comply with this AD:

Estimated Costs
Action | Labor cost | Parts cost | Cost per product | Cost on U.S. operators
Inspections | 16 work-hours × $85 per hour = $1,360 | $0 | $1,360 | $40,800

The FAA estimates the following costs to do any necessary replacements that would be required based on the results of the inspection. The FAA has no way of determining the number of aircraft that might need these replacements:

On-Condition Costs
Action | Labor cost | Parts cost | Cost per product
Replacement | 740 work-hours × $85 per hour = $62,900 | $15,000 | $77,900

Authority for This Rulemaking

Title 49 of the United States Code specifies the FAA's authority to issue rules on aviation safety. Subtitle I, section 106, describes the authority of the FAA Administrator. “Subtitle VII: Aviation Programs” describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-18-09 Lockheed Martin Corporation/Lockheed Martin Aeronautics Company: Amendment 39-19736; Docket No. FAA-2019-0699; Product Identifier 2019-NM-148-AD.

(a) Effective Date

This AD is effective October 11, 2019.

(b) Affected ADs

None.

(c) Applicability

This AD applies to all airplanes specified in paragraphs (c)(1) and (2) of this AD, certificated in any category.

(1) Lockheed Martin Corporation/Lockheed Martin Aeronautics Company Model 382, 382B, 382E, 382F, and 382G airplanes.

(2) The airplanes specified in paragraphs (c)(2)(i) through (x), type certificated in the restricted category.

(i) LeSEA Model C-130A airplanes, Type Certificate Data Sheet (TCDS) A34SO, Revision 1.

(ii) T.B.M, Inc., (transferred from Central Air Services, Inc.) Model C-130A airplanes, TCDS A39CE, Revision 3.

(iii) Western International Aviation, Inc., Model C-130A airplanes, TCDS A33NM.

(iv) USDA Forest Service Model C-130A airplanes, TCDS A15NM, Revision 4.

(v) Snow Aviation International, Inc., Model C-130A, TCDS TQ3CH, Revision 1.

(vi) Heavylift Helicopter, Inc., Model C-130A, TCDS A31NM, Revision 1.

(vii) Hawkins & Powers Aviation, Inc., Model HP-C-130A, TCDS A30NM, Revision 1.

(viii) Coulson Aviation (USA), Inc., Model EC-130Q, TCDS T00019LA, Revision 2.

(ix) Lockheed-Georgia Company, 282-44A-05, Model C-130B, TCDS A5SO.

(x) Surplus Model C-130A airplanes.

(d) Subject

Air Transport Association (ATA) of America Code 57, Wings.

(e) Unsafe Condition

This AD was prompted by reports of cracked inner tangs of the center wing lower rainbow fittings. The FAA is issuing this AD to address such cracks, which could result in failure of the center wing lower rainbow fittings, wing separation, and loss of the airplane.

(f) Compliance

Comply with this AD within the compliance times specified, unless already done.

(g) Inspections

Except as specified in paragraph (h) of this AD: Before the accumulation of 15,000 flight hours on the lower center wing rainbow fitting, or within 30 days after the effective date of this AD, whichever occurs later, do the inspections required by paragraphs (g)(1) and (2) of this AD, in accordance with the Accomplishment Instructions of Lockheed Martin Aeronautics Company Alert Service Bulletin A382-57-98, Revision 1, dated August 16, 2019. If any cracks are found during any inspection required by paragraphs (g)(1) and (2) of this AD, replace the rainbow fitting before further flight.

(1) Do a visual inspection of the center wing upper and lower rainbow fittings for any cracks.

(2) Do an eddy current inspection of the center wing lower rainbow fittings for any cracks.

(h) Compliance Time Exception

For any airplane on which the number of flight hours on the lower rainbow fitting cannot be determined, do the inspections required by paragraphs (g)(1) and (2) of this AD within 30 days after the effective date of this AD.

(i) No Reporting

Although Lockheed Martin Aeronautics Company Alert Service Bulletin A382-57-98, Revision 1, dated August 16, 2019, specifies to report inspection findings, this AD does not require any report.

(j) Credit for Previous Actions

This paragraph provides credit for the actions specified in paragraph (g) of this AD, if those actions were performed before the effective date of this AD using Lockheed Martin Aeronautics Company Alert Service Bulletin A382-57-98, dated August 9, 2019.

(k) Special Flight Permit

Special flight permits may be issued in accordance with 14 CFR 21.197 and 21.199 to operate the airplane to a location where the airplane can be modified, provided no more than two tangs (nodes) are found cracked during any inspection required by paragraph (g) of this AD.

(l) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m)(1) of this AD.

(2) Before using any approved AMOC, notify your appropriate principal inspector, or lacking a principal inspector, the manager of the local flight standards district office/certificate holding district office.

(3) An AMOC that provides an acceptable level of safety may be used for any repair, modification, or alteration required by this AD if it is approved by a Lockheed Martin Corporation/Lockheed Martin Aeronautics Company Designated Engineering Representative (DER) that has been authorized by the Manager, Atlanta ACO Branch, FAA, to make those findings. To be approved, the repair, modification deviation, or alteration deviation must meet the certification basis of the airplane, and the approval must specifically refer to this AD.

(m) Related Information

(1) For more information about this AD, contact Carl Gray, Aerospace Engineer, Airframe Section, FAA, Atlanta ACO Branch, 1701 Columbia Avenue, College Park, GA 30337; phone: 404-474-5554; fax: 404-474-5606; email: carl.w.gray@faa.gov.

(2) Service information identified in this AD that is not incorporated by reference is available at the addresses specified in paragraphs (n)(3) and (4) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Lockheed Martin Aeronautics Company Alert Service Bulletin A382-57-98, Revision 1, dated August 16, 2019.

(ii) [Reserved]

(3) For service information identified in this AD, contact Lockheed Martin Corporation/Lockheed Martin Aeronautics Company, Customer Support Center, Dept. 3E1M, Zone 0591, 86 S. Cobb Drive, Marietta, GA 30063; telephone 770-494-5444; fax 770 494-5445; email hercules.support@lmco.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, email fedreg.legal@nara.gov, or go to: http://www.archives.gov/federal-register/cfr/ibr-locations.html.

Issued in Des Moines, Washington, on September 16, 2019.
Suzanne Masterson,
Acting Director, System Oversight Division, Aircraft Certification Service.

[FR Doc. 2019-20855 Filed 9-25-19; 8:45 am]

BILLING CODE 4910-13-P